DEPARTMENT OF HEALTH AND HUMAN SERVICES

National Institutes of Health

National Cancer Institute; Amended Notice of Meeting

Notice is hereby given of a change in the meeting of the National Cancer Institute Board of Scientific Advisors, March 8, 2010, 8 a.m. to March 9, 2010, 12 p.m., National Institutes of Health, Building 31, 31 Center Drive, Bethesda, MD 20892 which was published in the Federal Register on January 20, 2010, 75FR3243.

This Federal Register Notice is amended to change the meeting to a one day meeting to be held on March 8, 2010, 8 a.m. to 6 p.m. The meeting is open to the public.

Dated: February 18, 2010.
Jennifer Spaeth,
Director, Office of Federal Advisory Committee Policy.

[FR Doc. 2010-3748 Filed 2-23-10; 8:45 am]

BILLING CODE 4140-01-P